DEPARTMENT OF TRANSPORTATION

Maritime Administration

[Docket No. MARAD-2024-0052]

Request for Comments on the Renewal of a Previously Approved Collection: Determining Vessel Services Categories for Purposes of the Cargo Preference Act

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0540 (Determining Vessel Services Categories For Purposes of the Cargo Preference Act) will be used to create a list of Vessel Self-Designations. We are required to publish this notice in the Federal Register to obtain comments from the public and affected agencies.

DATES: Comments must be submitted on or before June 3, 2024.

ADDRESSES: You may submit comments identified by Docket No. MARAD-2024-0052 through one of the following methods:

• Federal eRulemaking Portal: Go to https://www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

FOR FURTHER INFORMATION CONTACT: James Mead, Office of Cargo and Commercial Sealift, Maritime Administration, 1200 New Jersey Avenue SE, Washington DC 20590, Telephone: 202-366-5723 or Email: james.mead@dot.gov.

SUPPLEMENTARY INFORMATION:

Title: Determining Vessel Services Categories For Purposes of the Cargo Preference Act.

OMB Control Number: 2133-0540.

Type of Request: Extension without change of a Previously Approved Information Collection.

Abstract: OMB 2133-0540 (Determining Vessel Services Categories For Purposes of the Cargo Preference Act) is used in the designation of service categories of individual vessels, which is required for compliance with the Cargo Preference Act under a Memorandum of Understanding entered into by the U.S. Department of Agriculture, U.S. Agency for International Development, and the Maritime Administration (MARAD). MARAD will use the data submitted by vessel operators to create a list of Vessel Self-Designations.

Respondents: Vessel owners/operators or their appointed agents.

Affected Public: Business or other for-profit entities owning and/or operating ocean vessels.

Estimated Number of Respondents: 200.

Estimated Number of Responses: 200.

Estimated Hours per Response: 0.25.

Annual Estimated Total Annual Burden Hours: 50.

Frequency of Response: Once annually (if needed).

(Authority: The Paperwork Reduction Act of 1995; 44 U.S.C. Chapter 35, as amended; and 49 CFR 1.49.)

By Order of the Maritime Administrator.
T. Mitchell Hudson, Jr.,
Secretary, Maritime Administration.

[FR Doc. 2024-07087 Filed 4-2-24; 8:45 am]

BILLING CODE 4910-81-P